DEPARTMENT OF AGRICULTURE

National Agricultural Statistics Service

Notice of Public Information Collection Evaluation

AGENCY: National Agricultural Statistics Service, USDA.

ACTION: Notice and request for comments.

SUMMARY: The National Agricultural Statistics Service (NASS) is starting preparations for the 2007 Census of Agriculture. NASS invites the general public and other Federal agencies to comment on the recently released 2002 census. This notice announces the intent of the National Agricultural Statistics Service (NASS) to solicit evaluation of a previous information collection, the 2002 Census of Agriculture.

DATES: Comments on this notice must be received by October 18, 2004 to be assured of consideration.

ADDRESSES: Comments may be sent to Ginny McBride, NASS Clearance Officer, U.S. Department of Agriculture, Room 5336 South Building, 1400 Independence Avenue SW., Washington DC 20250-2024, or gmcbride@nass.usda.gov.

FOR FURTHER INFORMATION OR COMMENTS CONTACT: Carol House, Associate Administrator, National Agricultural Statistics Service, U.S. Department of Agriculture, (202) 720-4333.

SUPPLEMENTARY INFORMATION: Title: 2002 Census of Agriculture.

Type of Request: Solicitation of Evaluations.

Census Web site: http://www.nass.usda.gov/census.

Abstract: The census of agriculture conducted every 5 years is the primary source of statistics concerning the nation's agricultural industry and provides the only basis of consistent, comparable data at the county, state and national levels. The 2002 Census of Agriculture covered all agricultural operations in each state, the Commonwealth of Puerto Rico, Guam, the U.S. Virgin Islands, and the Commonwealth of Northern Mariana Islands which meet the census farm definition. Because of the desire to improve data collection in the 2007 Census of Agriculture, we are asking for comments and recommendations concerning the most recent data collection.

Comments: Comments are invited on: (a) Ways to enhance the quality, utility, and clarity of the information collected; (b) ways to minimize the burden of collection of information on those who are to respond. Comments may be sent to Ginny McBride, Agency OMB Clearance Officer, U.S. Department of Agriculture, Room 5330B South Building, 1400 Independence Avenue, SW., Washington, DC 20250-2024, or gmcbride@nass.usda.gov.

All responses to this notice will become a matter of public record.

Signed at Washington, DC, July 2004.
Carol House,
Associate Administrator.

[FR Doc. 04-19029 Filed 8-18-04; 8:45 am]

BILLING CODE 3410-20-P